DEPARTMENT OF LABOR

Employment and Training Administration

[TA-W-50,001 and TA-W-50,001A]

Reliant Bolt, Inc., Bedford Park, IL; Reliant Fastener, Rock Falls, IL; Amended Certification Regarding Eligibility to Apply for Worker Adjustment Assistance

In accordance with section 223 of the Trade Act of 1974 (19 U.S.C. 2273) the Department of Labor issued a Notice of Certification Regarding Eligibility to Apply for Worker Adjustment Assistance on December 10, 2002, applicable to workers of Reliant Bolt, Inc., Bedford Park, Illinois. The notice was published in the Federal Register on December 26, 2002 (67 FR 78817).

At the request of the company, the Department reviewed the certification for workers of the subject firm. Information shows that Reliant Fastener, Rock Falls, Illinois is a sister facility of Reliant Bolt, Inc. All workers were separated at Reliant Fastener when the facility closed in November 2002. The workers were engaged in the production of fasteners for industrial and automobile industries.

Accordingly, the Department is amending the certification to include workers of Reliant Fastener, Rock Falls, Illinois.

The amended notice applicable to TA-W-50,001 is hereby issued as follows:

“All workers of Reliant Bolt, Inc., Bedford Park, Illinois (TA-W-50,001) and all workers of Reliant Fastener, Rock Falls, Illinois (TA-W-50,001A), who became totally or partially separated from employment on or after November 4, 2001, through December 10, 2004, are eligible to apply for adjustment assistance under Section 223 of the Trade Act of 1974.”

Signed at Washington, DC this 5th day of February 2003.
Elliott S. Kushner,
Certifying Officer, Division of Trade Adjustment Assistance.

[FR Doc. 03-8339 Filed 4-4-03; 8:45 am]

BILLING CODE 4510-30-P